Title 3—

The President

Proclamation 8965 of April 30, 2013

Asian American and Pacific Islander Heritage Month, 2013

By the President of the United States of America

A Proclamation

Each May, our Nation comes together to recount the ways Asian Americans and Pacific Islanders (AAPIs) helped forge our country. We remember a time 170 years ago, when Japanese immigrants first set foot on American shores and opened a path for millions more. We remember 1869, when Chinese workers laid the final ties of the transcontinental railroad after years of backbreaking labor. And we remember Asian Americans and Pacific Islanders who have made our country bigger and brighter again and again, from Native Hawaiians to the generations of striving immigrants who shaped our history—reaching and sweating and scraping to give their children something more. Their story is the American story, and this month, we honor them all.

For many in the AAPI community, that story is one also marked by lasting inequality and bitter wrongs. Immigrants seeking a better life were often excluded, subject to quotas, or denied citizenship because of their race. Native Hawaiians and Pacific Islanders endured decades of persecution and broken promises. Japanese Americans suffered profoundly under internment during World War II, even as their loved ones fought bravely abroad. And in the last decade, South Asian Americans—particularly those who are Muslim, Hindu, or Sikh—have too often faced senseless violence and suspicion due only to the color of their skin or the tenets of their faith.

This year, we recognize the 25th anniversary of the Civil Liberties Act of 1988 and the 70th anniversary of the Chinese Exclusion Act's repeal—milestones that helped mend deep wounds of systemic discrimination. And with irrepressible determination and optimism, Asian Americans and Pacific Islanders have prevailed over adversity and risen to the top of their fields—from medicine to business to the bench. But even now, too many hardworking AAPI families face disparities in health care, education, and employment that keep them from getting ahead.

My Administration remains committed to addressing those disparities. Through the White House Initiative on AAPIs, we are working to ensure equal access to Federal programs that meet the diverse needs of AAPI communities. We are standing up for civil rights, economic opportunity, and better outcomes in health and education. We are fighting for commonsense immigration reform so America can continue to be a magnet for the best and brightest from all around the world, including Asia and the Pacific.

Meeting those challenges will not be easy. But the history of the AAPI community shows us how with hope and resolve, we can overcome the problems we face. We can reaffirm our legacy as a Nation where all things are possible for all people. So this month, as we recognize Asian Americans and Pacific Islanders who are fulfilling that promise in every corner of our country, let us recommit to giving our children and grandchildren the same opportunity in the years ahead.

NOW, THEREFORE, I, BARACK OBAMA, President of the United States of America, by virtue of the authority vested in me by the Constitution and the laws of the United States, do hereby proclaim May 2013 as Asian American and Pacific Islander Heritage Month. I call upon all Americans to visit www.WhiteHouse.gov/AAPI and www.AsianPacificHeritage.gov to learn more about the history of Asian Americans and Pacific Islanders, and to observe this month with appropriate programs and activities.

IN WITNESS WHEREOF, I have hereunto set my hand this thirtieth day of April, in the year of our Lord two thousand thirteen, and of the Independence of the United States of America the two hundred and thirty-seventh.

[FR Doc. 2013-10744

Filed 5-2-13; 11:15 am]

Billing code 3295-F3